DEPARTMENT OF ENERGY

Federal Energy Regulatory Commission

[Docket No. CP12-55-000]

Tennessee Gas Pipeline Company, L.L.C. Notice of Application

Take notice that on February 2, 2012, Tennessee Gas Pipeline Company, L.L.C. (Tennessee), 1001 Louisiana Street, Houston, Texas 77002, filed an application in Docket No. CP12-55-000 pursuant to section 7(b) of the Natural Gas Act (NGA) and Part 157 of the Commission's regulations, requesting authorization to abandon in place and by removal certain inactive supply pipelines and associated appurtenances located in the Eugene Island and Ship Shoal Areas in Federal offshore waters of the Outer Continental Shelf, Louisiana.

Specifically, the facilities to be abandoned include: (1) The southern portion of Line No. 523M-2300 (Triple T Line) consisting of approximately 16.67 miles of 30-inch diameter pipeline extending from Eugene Island Block (EI) 349 to EI 299; (2) Line No. 523M-8600 consisting of approximately 7.03 miles of 14-inch diameter pipeline extending from Ship Shoal Block (SS) 295 to a connection with the Triple T Line in EI 302; and (3) Line No. 523M-8700 consisting of approximately 2.19 miles of 6-inch diameter pipeline extending from EI 342 to a connection with the Triple T Line in EI 342. Tennessee states that the facilities have been out of service since January 27, 2011 due to uncontrollable corrosion that has resulted in ongoing leakage incidents.

Any questions concerning this application may be directed to Thomas G. Joyce, Manager, Certificates, Tennessee Gas Pipeline Company, L.L.C., 1001 Louisiana Street, Houston, Texas 77002, by telephone at (713) 420-3299, by facsimile at (713) 420-1473, or by email at tom.joyce@elpaso.com; Susan T. Halbach, Senior Counsel, Tennessee Gas Pipeline Company, L.L.C., 1001 Louisiana Street, Houston, Texas 77002, by telephone at (713) 420-5751, by facsimile at (713) 420-1601, or by email at susan.halbach@elpaso.com; or Debbie Kalisek, Regulatory Analyst, Tennessee Gas Pipeline Company, L.L.C., 1001 Louisiana Street, Houston, Texas 77002, by telephone at (713) 420-3292, by facsimile at (713) 420-1473, or by email at debbie.kalisek@elpaso.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 7 copies of the protest or intervention to the Federal Energy regulatory Commission, 888 First Street NE., Washington, DC 20426. This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: February 29, 2012.

Dated: February 8, 2012.
Kimberly D. Bose,
Secretary.

[FR Doc. 2012-3405 Filed 2-13-12; 8:45 am]

BILLING CODE 6717-01-P